DEPARTMENT OF COMMERCE

International Trade Administration

[A-570-900]

Diamond Sawblades and Parts Thereof From the People's Republic of China: Final Results of Antidumping Duty Administrative Review; 2009-2010

AGENCY: Import Administration, International Trade Administration, Department of Commerce.

SUMMARY: On December 6, 2011, the Department of Commerce (the Department) published the preliminary results of the administrative review of the antidumping duty order on diamond sawblades and parts thereof (diamond sawblades) from the People's Republic of China (the PRC). The period of review (POR) is January 23, 2009, through October 31, 2010. For the final results, we continue to find that certain companies covered by this review made sales of subject merchandise at less than normal value.

DATES: Effective Date: February 15, 2013.

FOR FURTHER INFORMATION CONTACT: Michael Romani or Yang Jin Chun, AD/CVD Operations, Office 1, Import Administration, International Trade Administration, U.S. Department of Commerce, 14th Street and Constitution Avenue NW., Washington, DC 20230; telephone: (202) 482-0198 or (202) 482-5760, respectively.

SUPPLEMENTARY INFORMATION:

Background

On December 6, 2011, the Department published the preliminary results of the administrative review of the antidumping duty order on diamond sawblades from the PRC.¹ We received case and rebuttal briefs with respect to the Preliminary Results and, at the request of interested parties, we held a hearing on February 23, 2012.

¹ See Diamond Sawblades and Parts Thereof From the People's Republic of China: Preliminary Results of Antidumping Duty Administrative Review and Intent to Rescind Review in Part, 76 FR 76135 (December 6, 2011) (Preliminary Results).

On April 5, 2012, the Diamond Sawblades Manufacturers Coalition (the petitioner) alleged that Korean respondents Ehwa Diamond Industrial Co., Ltd., and Shinhan Diamond Industrial Co., Ltd. and SH Trading Inc., and their respective Chinese subsidiaries Weihai Xiangguang Mechanical Industrial Co., Ltd. (Weihai), and Qingdao Shinhan Diamond Industrial Co., Ltd. (Qingdao Shinhan), sold diamond sawblades into the United States bearing false country of origin designations.

We extended the due date for the final results of review to June 4, 2012.² On June 4, 2012, the Department deferred the final results of this administrative review in order to address the petitioner's fraud allegations.³

² See Diamond Sawblades and Parts Thereof From the People's Republic of China: Extension of Time Limit for Final Results of Antidumping Duty Administrative Review, 77 FR 14733 (March 13, 2012), and Diamond Sawblades and Parts Thereof From the Republic of Korea and the People's Republic of China: Extension of Time Limits for the Final Results of the Antidumping Duty Administrative Reviews, 77 FR 20788 (April 6, 2012).

³ See Memorandum to Paul Piquado, Assistant Secretary for Import Administration, entitled “Diamond Sawblades and Parts Thereof From the Republic of Korea and the People's Republic of China: Deferral of the Final Results of the First Antidumping Duty Administrative Reviews,” dated June 4, 2012.

On January 8, 2013, we issued a post-preliminary memorandum finding that the information submitted by Weihai and Qingdao Shinhan is reliable for the final results of the review.⁴

⁴ See Memorandum to Paul Piquado, Assistant Secretary for Import Administration, entitled “2009/2010 Review of the Antidumping Duty Orders on Diamond Sawblades and Parts Thereof From the Republic of Korea and the People's Republic of China: Post-Preliminary Analysis,” dated January 8, 2013. See also Memorandum to Paul Piquado, Assistant Secretary for Import Administration, from Gary Taverman, Senior Advisor for Antidumping and Countervailing Duty Operations, entitled “Issues and Decision Memorandum for the Administrative Review of the Antidumping Duty Order on Diamond Sawblades and Parts Thereof From the People's Republic of China covering the Period January 23, 2009, through October 31, 2010,” dated February 8, 2013 (Final Decision Memorandum), which is hereby adopted by this notice, at Comment 27.

We have conducted this administrative review in accordance with section 751 of the Tariff Act of 1930, as amended (the Act).

Fraud Allegation

We continue to find the information Weihai and Qingdao Shinhan submitted in this review to be reliable for the final results of review.⁵

⁵ See Final Decision Memorandum for more details.

Scope of the Order

The merchandise subject to the order is diamond sawblades. The diamond sawblades subject to the order are currently classifiable under subheadings 8202 to 8206 of the Harmonized Tariff Schedule of the United States (HTSUS), and may also enter under 6804.21.00. The HTSUS subheadings are provided for convenience and customs purposes. A full description of the scope of the order is contained in the Final Decision Memorandum. The written description is dispositive.

Analysis of Comments Received

All issues raised in the case briefs by parties to this administrative review are addressed in the Final Decision Memorandum. A list of the issues raised is attached to this notice as an appendix. The Final Decision Memorandum is a public document and is on file electronically via Import Administration's Antidumping and Countervailing Duty Centralized Electronic Service System (IA ACCESS). Access to IA ACCESS is available to registered users at http://iaaccess.trade.gov and is available to all parties in the Central Records Unit, Room 7046 of the main Department of Commerce building. In addition, a complete version of the Final Decision Memorandum can be accessed directly on the Import Administration Web site at http://ia.ita.doc.gov/frn/index.html. The signed Final Decision Memorandum and the electronic versions of the Final Decision Memorandum are identical in content.

Rescission of Administrative Review in Part

We preliminarily found that Shanghai Deda Industry & Trading Co., Ltd. (Shanghai Deda) did not have any exports of subject merchandise during the POR and, on this basis, we stated our intent to rescind the review in part.⁶ We continue to find that the company had no shipments of subject merchandise during the POR and are rescinding this review for Shanghai Deda.

⁶ See Preliminary Results, 76 FR at 76136.

On March 28, 2011, the petitioner withdrew its request for review of the following companies:

Electrolux Construction Products (Xiamen) Co. Ltd.

Hebei Jikai Industrial Group Co., Ltd.

Huachang Diamond Tools Manufacturing Co., Ltd.

Jiangsu Fengyu Tools Co., Ltd.

Jiangyin Likn Industry Co., Ltd.

Protech Diamond Tools

Quanzhou Shuangyang Diamond Tools Co., Ltd.

Task Tools & Abrasives

Zhejiang Wanda Import and Export Co.

Zhejiang Wanda Tools Group Corp.

Zhejiang Wanli Super-hard Materials Co., Ltd.

In the Preliminary Results, we assigned the PRC-wide rate to these companies. In its case brief, Hebei Jikai Industrial Group Co., Ltd. (Hebei Jikai) requested that the Department rescind the review of these companies because the petitioner was the only party that requested their review and because the petitioner timely withdrew its request. On August 8, 2012, we rescinded the review in part for Hebei Jikai and Jiangyin Likn Industry Co., Ltd.⁷ Because the other companies listed above have not previously received a separate rate, we did not rescind this review with respect to those companies. While the request for review for those companies was timely withdrawn, those companies remain part of the PRC-wide entity.

⁷ See Diamond Sawblades and Parts Thereof From the People's Republic of China: Rescission of Antidumping Duty Administrative Review in Part, 77 FR 47362 (August 8, 2012).

Surrogate Country

In the Preliminary Results, we treated the PRC as a non-market-economy (NME) country and, therefore, we calculated normal value in accordance with section 773(c) of the Act. We selected India as the surrogate country, pursuant to section 773(c)(4) of the Act, because it is a significant producer of merchandise comparable to subject merchandise and is at a level of economic development comparable to the PRC.⁸ For the final results of review, we have continued to treat the PRC as an NME country and have used the same primary surrogate country, India.

⁸ See Preliminary Results, 76 FR at 76136.

Affiliation

In the Preliminary Results, we treated five companies as a single entity, the ATM Single Entity,⁹ for purposes of calculating a single margin.¹⁰ We have received and evaluated the comments with respect to ATM Single Entity and whether to expand it to include two additional companies. For these final results, we have determined not to include any additional companies in ATM Single Entity.¹¹

⁹ ATM Single Entity includes Advanced Technology & Materials Co., Ltd., Beijing Gang Yan Diamond Products Co., Ltd., HXF Saw Co., Ltd., AT&M International Trading Co., Ltd., and Cliff International Ltd.

¹⁰ See Preliminary Results, 76 FR at 76136.

¹¹ See Final Decision Memorandum at Comments 1 and 2.

Separate Rates

In proceedings involving NME countries, the Department begins with a rebuttable presumption that all companies within the country are subject to government control and, thus, should be assigned a single antidumping duty deposit rate.¹² It is the Department's policy to assign all exporters of merchandise subject to review in an NME country this single rate unless an exporter can demonstrate that it is sufficiently independent so as to be entitled to a separate rate.¹³

¹² See, e.g.,Final Determination of Sales at Less Than Fair Value and Final Partial Affirmative Determination of Critical Circumstances: Diamond Sawblades and Parts Thereof From the People's Republic of China, 71 FR 29303 (May 22, 2006), and Notice of Final Determination of Sales at Less Than Fair Value, and Affirmative Critical Circumstances, In Part: Certain Lined Paper Products From the People's Republic of China, 71 FR 53079 (September 8, 2006).

¹³ See Initiation of Antidumping and Countervailing Duty Administrative Reviews and Requests for Revocation in Part, 75 FR 81565, 81566 (December 28, 2010) (Initiation).

In the Preliminary Results, we found that, in addition to the companies we selected for individual examination, certain companies demonstrated their eligibility for separate rate status by demonstrating that they operated free of de jure and de facto government control.¹⁴ We received comments from interested parties regarding the separate rate status of ATM Single Entity. Based on the information on the record of this review, we continue to find that ATM Single Entity has demonstrated an absence of de jure and de facto government control and is, thus, eligible for a separate rate.¹⁵ We also continue to find that the other respondents that received separate rates in the Preliminary Results are eligible for separate rates.

¹⁴ See Preliminary Results, 76 FR at 76136-37.

¹⁵ See Final Decision Memorandum at Comments 1 and 2.

Separate Rate for a Non-Selected Company

In the Preliminary Results, with regard to companies not selected for individual examination, we explained that, because (1) the statute and the Department's regulations do not address the establishment of a rate to be applied to individual companies not selected for examination when the Department limits its examination in an administrative review pursuant to section 777A(c)(2) of the Act, and (2) the Department's usual practice has been to average the margins for the selected companies, excluding margins that are zero, de minimis, or based entirely on facts available,¹⁶ we assigned the antidumping duty margin for Weihai to companies not selected for individual examination and eligible for a separate rate. We are continuing to assign them Weihai's rate, 9.55 percent, for these final results. In assigning this separate rate, we did not impute the actions of any other companies to the behavior of the companies not individually examined but based this determination on record evidence that is reasonably reflective of the potential dumping margin for the companies not selected for individual examination and eligible for a separate rate in this administrative review.

¹⁶ See Ball Bearings and Parts Thereof From France, Germany, Italy, Japan, and the United Kingdom: Final Results of Antidumping Duty Administrative Reviews and Rescission of Reviews in Part, 73 FR 52823, 52824 (September 11, 2008), and accompanying Issues and Decision Memorandum at Comment 16.

Changes Since the Preliminary Results

Based on our analysis of comments received, we have made revisions that have changed the results for certain companies. Additionally, we have made calculation programming changes for the final results. For further details on the changes we made for these final results, see the company-specific analysis memoranda, the Final Decision Memorandum, and the final surrogate value memorandum dated concurrently with this notice.

Final Results of the Review

As a result of the administrative review, we determine that the following weighted-average percentage dumping margins exist for the period January 23, 2009, through October 31, 2010:

Company ¹⁷ | Margin (percent)
Advanced Technology & Materials Co., Ltd. | 0.15
ASHINE Diamond Tools Co., Ltd. | 9.55
AT&M International Trading Co., Ltd. | 0.15
Beijing Gang Yan Diamond Products Co. | 0.15
Bosun Tools Co., Ltd. | 9.55
Chengdu Huifeng Diamond Tools Co., Ltd. | 9.55
Cliff International Ltd.¹⁸ | 0.15
Danyang Hantronic Import & Export Co., Ltd. | 9.55
Danyang Huachang Diamond Tools Manufacturing Co., Ltd. | 9.55
Danyang NYCL Tools Manufacturing Co., Ltd. | 9.55
Fujian Quanzhou Wanlong Stone Co., Ltd. | 9.55
Guilin Tebon Superhard Material Co., Ltd. | 9.55
Hangzhou Deer King Industrial & Trading Co., Ltd. | 9.55
Hebei Husqvarna-Jikai Diamond Tools Co., Ltd. | 9.55
Hebei XMF Tools Group Co., Ltd.¹⁹ | 9.55
Henan Huanghe Whirlwind Co., Ltd. | 9.55
Henan Huanghe Whirlwind International Co., Ltd. | 9.55
Huzhou Gu's Import & Export Co., Ltd. | 9.55
HXF Saw Co., Ltd. | 0.15
Jiangsu Fengtai Diamond Tool Manufacture Co., Ltd. | 9.55
Jiangsu Inter-China Group Corporation | 9.55
Jiangsu Youhe Tool Manufacturer Co., Ltd. | 9.55
Qingdao Shinhan Diamond Industrial Co., Ltd. | 9.55
Quanzhou Zhongzhi Diamond Tool Co. Ltd. | 9.55
Rizhao Hein Saw Co., Ltd. | 9.55
Saint-Gobain Abrasives (Shanghai) Co., Ltd. | 9.55
Shanghai Robtol Tool Manufacturing Co., Ltd. | 9.55
Shijiazhuang Global New Century Tools Co., Ltd. | 9.55
Weihai Xiangguang Mechanical Industrial Co., Ltd. | 9.55
Wuhan Wanbang Laser Diamond Tools Co. | 9.55
Xiamen ZL Diamond Technology Co., Ltd. | 9.55
Zhejiang Wanli Tools Group Co., Ltd. | 9.55
PRC-Wide Entity ²⁰ | 164.09

¹⁷ For explanations on the names of certain companies, see Preliminary Results, 76 FR at 76136-37.

¹⁸ Cliff International Ltd. also used the company name Cliff (Tianjin) International Ltd., according to various documents provided in ATM Single Entity's May 10, 2011, section A response.

¹⁹ Hebei XMF Tools Group Co., Ltd., reported that its correct name is Hebei XMF Tools Group Co., Ltd., and not Hebei XMF Tools (Group) Co., Ltd., which is the name we stated in the Initiation, 75 FR at 81567, and the Preliminary Results, 77 FR at 76137, 76141. See the letter from Hebei XMF Tools Group Co., Ltd., dated December 2, 2011.

²⁰ The PRC-wide entity includes the following companies: Central Iron and Steel Research Institute Group, Danyang Aurui Hardware Products Co., Ltd., Danyang Dida Diamond Tools Manufacturing Co., Ltd., Danyang Tsunda Diamond Tools Co., Ltd., Danyang Weiwang Tools Manufacturing Co., Ltd., Electrolux Construction Products (Xiamen) Co. Ltd., Huachang Diamond Tools Manufacturing Co., Ltd., Hua Da Superabrasive Tools Technology Co., Ltd., Jiangsu Fengyu Tools Co., Ltd., Protech Diamond Tools, Pujiang Talent Diamond Tools Co., Ltd., Quanzhou Shuangyang Diamond Tools Co., Ltd., Sichuan Huili Tools Co., Task Tools & Abrasives, Wuxi Lianhua Superhard Material Tools Co., Ltd., Zhejiang Tea Import & Export Co., Ltd., Zhejiang Wanda Import and Export Co., Zhejiang Wanda Tools Group Corp., and Zhejiang Wanli Super-hard Materials Co., Ltd.

Assessment

The Department shall determine, and U.S. Customs and Border Protection (CBP) shall assess, antidumping duties on all appropriate entries. In accordance with 19 CFR 351.212(b)(1), we have calculated, whenever possible, an exporter/importer (or customer)-specific assessment rate or value for merchandise subject to this review as described below.

For ATM Single Entity, we will instruct CBP to liquidate all entries during the POR without regard to antidumping duties in accordance with 19 CFR 351.106(c)(2). For customers or importers of Weihai for which we do not have entered value, we have calculated customer/importer-specific antidumping duty assessment amounts based on the ratio of the total amount of antidumping duties calculated for the examined sales of subject merchandise to the total quantity of subject merchandise sold in those transactions. For customers or importers of Weihai for which we received entered-value information, we have calculated customer/importer-specific antidumping duty assessment rates based on customer/importer-specific ad valorem rates in accordance with 19 CFR 351.212(b)(1). For all non-selected respondents that received a separate rate, we will instruct CBP to apply an antidumping duty assessment rate of 9.55 percent to all entries of subject merchandise that entered the United States during the POR. For all other companies, we will instruct CBP to apply an antidumping duty assessment rate of 164.09 percent to all entries of subject merchandise exported by these companies.

We intend to issue assessment instructions to CBP 15 days after the date of publication of the final results of review.

Cash Deposit Requirements

The following cash deposit requirements will be effective upon publication of these final results of review for all shipments of the subject merchandise entered, or withdrawn from warehouse, for consumption on or after the publication date as provided by section 751(a)(2)(C) of the Act: (1) For subject merchandise exported by the companies listed above that have separate rates, the cash deposit rate will be the rate established in this final results of review for each exporter as listed above, except if the rate is zero or de minimis, then no cash deposit will be required for that exporter; (2) for previously investigated companies not listed above that have separate rates, the cash deposit rate will continue to be the company-specific rate published for the investigation; (3) for all other PRC exporters of subject merchandise which have not been found to be entitled to a separate rate, the cash deposit rate will be the PRC-wide rate of 164.09 percent; (4) for all non-PRC exporters of subject merchandise which have not received their own rate, the cash deposit rate will be the rate applicable to the PRC entity that supplied that non-PRC exporter. These deposit requirements shall remain in effect until further notice.

Notifications

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

These final results of review are issued and published in accordance with sections 751(a)(1) and 777(i) of the Act.

Dated: February 8, 2013.
Paul Piquado,
Assistant Secretary for Import Administration.

Appendix

1. Separate Rate

2. Corporate Affiliation

3. Respondent Selection

4. Surrogate Values

Air Freight

Brokerage and Handling

Cores

Diamond Powder

Electricity

Financial Ratios

Gasoline

Paraffin Wax

Steel Types 1, 2, 3, and 6

Tin Powder

5. Status of the Order

6. Combination Rates

7. Assessment Period

8. Instructions to CBP

9. Zeroing

10. Fraud Allegations and the Reliability of Respondents' Submissions

[FR Doc. 2013-03481 Filed 2-14-13; 8:45 am]

BILLING CODE 3510-DS-P